DEPARTMENT OF HOUSING AND URBAN DEVELOPMENT

[Docket No. FR-7070-N-59]

30-Day Notice of Proposed Information Collection: Mortgage Insurance Termination, Application for Premium Refund, Tracer Claimant Refund Case Request, Online HUD-27050-B; OMB Control No.: 2502-0414

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: October 26, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Colette Pollard, Clearance Officer, REE, Department of Housing and Urban Development, 451 7th Street SW, Room 8210, Washington, DC 20410-5000; email PaperworkReductionActOffice@hud.gov.

FOR FURTHER INFORMATION CONTACT: Colette Pollard, Reports Management Officer, REE, Department of Housing and Urban Development, 7th Street SW, Room 8210, Washington, DC 20410; email Colette.Pollard@hud.gov or telephone 202-402-3400. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A.

The Federal Register notice that solicited public comment on the information collection for a period of 60 days was published on July 6, 2023 at 88 FR 43135.

A. Overview of Information Collection

Title of Information Collection: Mortgage Insurance Termination.

Application for Premium Refund, Tracer Claimant Refund Case Request.

OMB Approval Number: 2502-0414.

OMB Expiration Date: 12/31/2023.

Type of Request: Revision of currently approved OMB collection.

Form Number: Mortgage Insurance Termination HUD-27050-A is submitted electronically; Application for Premium Refund HUD-27050-B.

Description of the need for the information and proposed use: Mortgage Insurance Termination information is used by servicing mortgagees to comply with HUD requirements for reporting termination of FHA mortgage insurance. This information is used whenever FHA mortgage insurance is terminated and no claim for insurance benefits will be filed. This information is submitted on the internet or via EDI and is used to issue mortgage insurance premium (MIP) refunds directly to eligible claimants. This condition occurs when the form passes the criteria of certain system edits. As a result, the system generates a disbursement to the eligible claimant for the refund consisting of the unused portion of the paid premium. The information collected is used to update HUD's Single Family Insurance System. The billing of mortgage insurance premiums is discontinued as a result of the transaction. Without this information, the premium collection/monitoring function would be severely impeded and program data would be unreliable. Currently when the form is processed but does not pass the criteria in the series of system edits, the system generates the HUD 27050-B Application for Premium Refund for the claimant to complete and return to HUD for further processing of the refund. In general, a Premium Refund is the difference between the amount of prepaid premium and the amount of the premium that has been earned by HUD up to the time the mortgage is terminated. The Tracer Claimant Refund Case Request is used to collect information on the claimant from the tracer.

Information collection | Number of respondents | Frequency of response | Total annual responses | Hours per response | Total annual hours
Mortgage Insurance Termination HUD-27050-A | 1,898 | Varies | 1,310,031 | 0.08 | 104,802
Application for Premium Refund HUD-27050-B | 10,394 | 1 | 10,394 | 0.25 | 2,599
Tracer—Claimant Refund Case Request | 360 | 1 | 360 | .25 | 90
Online Application for Premium Refund HUD 27050-B | 15,592 | 1 | 15,592 | .25 | 3,898
Totals | 28,244 |  | 1,336,377 |  | 111,389

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comments in response to these questions.

C. Authority

Section 3507 of the Paperwork Reduction Act of 1995, 44 U.S.C. chapter 35.

Colette Pollard,
Department Reports Management Officer, Office of Policy Development and Research, Chief Data Officer.

[FR Doc. 2023-20831 Filed 9-25-23; 8:45 am]

BILLING CODE 4210-67-P